DEPARTMENT OF HEALTH AND HUMAN SERVICES

Administration for Children and Families

Submission for Office of Management and Budget Review; Grants to States for Access and Visitation (Office of Management and Budget #: 0970-0204)

AGENCY: Division of Program Innovation, Office of Child Support Services, Administration for Children and Families, U.S. Department of Health and Human Services.

ACTION: Request for public comments.

SUMMARY: The Division of Program Innovation, Office of Child Support Services (OCSS), Administration for Children and Families (ACF) is requesting a 3-year extension of the Access and Visitation Survey: Annual Report (Office of Management and Budget #: 0970-0204, expiration 6/30/2024). There are no changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The grant recipient and sub-grant recipient submit the spreadsheet and survey yearly. Information collected includes the number of applicants/referrals for each program, the total number of participating individuals, and the number of persons who have completed program requirements by authorized activities (mediation—voluntary and mandatory; counseling; education; development of parenting plans; visitation enforcement, including monitoring, supervision and neutral drop-off and pickup; and development of guidelines for visitation and alternative custody arrangements. OCSS uses the information to ensure recipient's adherence statutory (sec. 469B. [42 U.S.C. 669b]) and regulatory (45 CFR part 303) requirements of “Grants to States for Access and Visitation.”

Respondents: State child access and visitation programs and State or local service providers.

Annual Burden Estimates
Instrument | Total number of respondents | Annual number of responses per respondent | Average burden hours per response | Annual burden hours
Online Portal Survey by States and Jurisdictions | 53 | 1 | 16 | 848
Survey of local service grant recipients | 264 | 1 | 16 | 4,224

Estimated Total Annual Burden Hours: 5072.

Authority: Sec.469B (42 U.S.C.669b); 45 CFR part 303.

Mary C. Jones,
ACF/OPRE Certifying Officer.

[FR Doc. 2024-06243 Filed 3-22-24; 8:45 am]

BILLING CODE 4184-41-P